DEPARTMENT OF TRANSPORTATION

Federal Railroad Administration

Notice and Request for Comments

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register notice with a 60-day comment period soliciting comments on the following collection of information was published on February 6, 2007 (72 FR 5493).

DATES: Comments must be submitted on or before May 16, 2007.

FOR FURTHER INFORMATION CONTACT: Mr. Robert Brogan, Office of Safety, Planning and Evaluation Division, RRS-21, Federal Railroad Administration, 1120 Vermont Ave., NW., Mail Stop 25, Washington, DC 20590 (telephone: (202) 493-6292), or Ms. Gina Christodoulou, Office of Support Systems Staff, RAD-43, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On February 6, 2007, FRA published a 60-day notice in the Federal Register soliciting comment on ICRs that the agency was seeking OMB approval. 72 FR 5493.

FRA received three comments after issuing this notice. All three letters expressed support for the proposed study/collection of information. The first letter was sent to FRA by Dr. John Draper of the National Suicide Prevention Lifeline (NSPL). In his letter, Dr. Draper remarks:

As Director of the federally-funded National Suicide Prevention Line (NSPL), I am aware of the American Association of Suicidology's (AAS) application to the federal Office of Management and Budget seeking measures to enhance accurate reporting and identify causes of railway-related suicides. I am writing today to acknowledger their important, collaborative role in promoting and supporting the Lifeline and its network of 120 crisis centers across the nation and the potential value that the Lifeline sees in the proposed collection of data.

To the extent that AAS is successful in obtaining federal authorization to collect this data, the NSPL could more effectively collaborate with AAS and railway authorities to prevent railway suicides.

Dr. Draper goes on to outline what such a collection of information as the proposed study will achieve. He states:

First, the prevalence of suicides in railway systems must be accurately documented to: (a) Alert railway administrators to the full scope of this public health problem affecting their business operations and interests; and (b) Provide a prevalence base-line to enable meaningful, comparative outcome measures for any suicide prevention efforts implemented to address the problem (e.g., “did it work?”). This information will assist NSPL/AAS/Railway collaborations in assessing where NSPL services and promotions efforts might be most effectively located in the vicinity of railway systems, and the degree to which such promotions/service efforts, once implemented, may have an impact on railway suicides.

Second, determining causes of railway suicides might assist the NSPL in more effectively targeting suicide prevention messages and services to address the identified risk factors. For example, if specific demographic groups in geographic areas near railways could be determined to have a significantly greater risk, or certain identifiable behavioral factors could be associated with better predicting who might be planning a railway suicide, the NSPL and AAS could work together with railway administrators to enhance awareness of the Lifeline number for such “at risk groups” showing “warning signs.”

* * * If AAS is provided with authorization to collect the valuable information noted above, the NSPL can count on AAS for further collaborations towards applying this information in efforts that could more effectively prevent suicides in railway systems.

The second letter was sent to FRA by Mr. John Reed of the Suicide Prevention Action Network (SPAN). In his letter, Mr. Reed observes:

SPAN USA supports Phase II of the Federal Railroad Administration (FRA) project to reduce suicides on the rail system. Currently, there is no reliable source for determining how many of the approximately 500 deaths that occur on rail property each year are by suicide because they are not reported consistently or to one central source. It is believed that suicide on the railways is under-reported—as is suicide in general. Without an accurate accounting, there is way to know the magnitude of suicide on railroad-owned property, or any way to track the effectiveness of prevention strategies. SPAN USA supports the current FRA project so that the information necessary to design and implement suicide prevention measures for the nation's rail system in order to reduce suicide deaths will be available.

SPAN USA's National Scientific Advisory Committee supports psychological autopsies as an accepted, empirically-based research method for obtaining information about those who die by suicide. These autopsies are particularly useful in railway deaths because many such suicides are witnessed, and often the individual completing the suicide does not leave a note. Through the psychological autopsies which the American Association of Suicidology (AAS) intends to carry out, much needed information can be gained in order to create an analysis of suicide incidents involving the 70 individuals who will be autopsied.

SPAN USA supports AAS and the Association of American Railroads' (AAR) continued efforts on this project. AAS is dedicated to the understanding and prevention of suicide, and has experience conducting and analyzing psychological autopsies. In addition, AAR has been a strong partner in SPAN USA's efforts to open minds, change policy and save lives with respect to our suicide prevention activities.

The third letter was sent to FRA by Dr. Daniel Reidenberg of Suicide Awareness Voices of Education. In his letter, Dr. Reidenberg notes:

I am very familiar with the American Association of Suicidology and their substantial credibility and work in the field and study of suicide * * * We have a serious problem of national importance that must continue to be addressed through research, scientific study, public awareness and education. Much of what we have learned about suicide comes from psychological autopsies, from which come newly developed assessment tools and techniques, as well as prevention efforts. All of this not only will save lives, but reduce the tremendous economic impact of suicides by rail or other forms of major public transportation.

* * * I fully support the work of the AAS and this particular project. There is no better organization more suited to conduct this type of work and there is no more time for delay. We desperately need this work to be conducted, because any life lost to suicide is one too many.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507(b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden, and are being submitted for clearance by OMB as required by the PRA.

Title: Causal Analysis and Countermeasures to Reduce Rail-Related Suicides.

OMB Control Number: 2130-NEW.

Type of Request: New collection.

Affected Public: Railroad personnel, members of the public, affected family and friends.

Abstract: Pedestrian trespassing on railroad property resulting in serious injury or death is one of the two most serious safety problems—the second being grade crossing collisions—facing the railroad industry and its regulators not only in the United States but also in other countries. It is widely believed in the United States that the reported prevalence and incidence of railway suicide vastly under-represents the nature and extent of the problem. There is no central reporting system within the railroad industry or suicide prevention field that provides verifiable information about how many trespass deaths are accidental versus intentional. Therefore, there are no verifiable measures of the extent of rail-related suicides in this country. While railroad companies must report trespass incidents resulting in serious injury or death to the U.S. Federal Railroad Administration (FRA), injuries or deaths that are ruled by a medical examiner or coroner to be intentional are not reported. Preliminary figures from 2006 indicate there were approximately 500 deaths and 360 injuries reported to FRA—an increase of 100 incidents over the previous year—but suicides are not represented in these numbers. Unverifiable estimates from a number of sources range from 150 to more than 300 suicides per year on the U.S. railways. Like any other incident on the rail system, a suicide on the tracks results in equipment and facility damage, delays to train schedules, and trauma to railroad personnel involved in the incidents. As a result, FRA last year awarded a grant for the first phase of a five-year project to reduce suicides on the rail system to the Railroad Research Foundation (part of the Association of American Railroads) and its subcontractor, the American Association of Suicidology (AAS). In the course of the five-year project, the research project's goals include: (i) A prevalence assessment to determine verifiable numbers of suicides on the rail system; (ii) Development of a standardized reporting tool for industry use; (iii) A causal analysis and root cause analysis of suicide incidents that occur during the grant cycle; and (iv) Design and implementation of suicide prevention measures for the nation's rail system to reduce suicide injuries and deaths. AAS is also receiving a grant from the Federal Transit Administration (FTA) to study suicides on commuter rail lines throughout the country. Consequently, AAS has expanded its study to include commuter lines as well, and will be using the same collection instruments once they are approved by the Office of Management and Budget.

This collection of information pertains to Phase II of the project, the causal analysis. In order to understand as much as possible about people who intend to die by placing themselves in the path of a train and, therefore, to design prevention strategies, AAS intends to conduct 70 psychological autopsies over the course of two years on people who die by rail-related suicide. Psychological autopsy is a recognized and accepted method for obtaining information about physical, emotional, and circumstantial contributors to a person's death. The 70 psychological autopsies proposed for the FRA and FTA projects will involve interviews with witnesses to these incidents—rail and commuter personnel and members of the public—as well as family members, friends, employers, and co-workers. After conducting a root cause analysis of this data, AAS will then work with the industry to design, pilot test, and implement effective countermeasures with the goal of reducing deaths, injuries, and psychological trauma.

Form Number(s): FRA F 6180.125A; FRA F 6180.125B.

Annual Estimated Burden Hours: 537 hours.

Addressee: Send comments regarding this information collection to the Office of Information and Regulatory Affairs, Office of Management and Budget, 725 Seventeenth Street, NW., Washington, DC 20503, Attention: FRA Desk Officer.

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC on April 10, 2007.
D.J. Stadtler,
Director, Office of Budget, Federal Railroad Administration.

[FR Doc. E7-7191 Filed 4-13-07; 8:45 am]

BILLING CODE 4910-06-P